DEPARTMENT OF TRANSPORTATION

Surface Transportation Board

[STB Docket No. AB-863X]

City of Venice—Abandonment Exemption—in Venice, IL, and St. Louis, MO

The City of Venice (City) has filed a notice of exemption under 49 CFR 1152 Subpart F—Exempt Abandonments to abandon its entire 2.00-mile line of railroad, between milepost 0.55 near Branch Street Yard in St. Louis, MO, and milepost 0.0 at the state line at Venice, IL, and milepost 0.00 at Venice and milepost 1.45 at McKinley Junction, IL. The line traverses United States Postal Service ZIP Codes 62090 and 63147.

The City has certified that: (1) No local traffic has moved over the line for at least 2 years; (2) there is no overhead traffic on the line; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

Where, as here, the carrier is abandoning its entire line, the Board does not normally impose labor protection under 49 U.S.C. 10502(g), unless the evidence indicates the existence of: (1) A corporate affiliate that will continue substantially similar rail operations; or (2) a corporate parent that will realize substantial financial benefits over and above relief from the burden of deficit operations by its subsidiary railroad. See Wellsville, Addison & Galeton R. Corp.—Abandonment, 354 I.C.C. 744 (1978); and Northampton and Bath R. Co.—Abandonment, 354 I.C.C. 784 (1978). Because the City does not appear to have a corporate affiliate or parent that could benefit from the proposed abandonment, employee protection conditions will not be imposed.

Provided no formal expression of intent to file an offer of financial assistance (OFA) has been received, this exemption will be effective on January 28, 2004,¹ unless stayed pending reconsideration. Petitions to stay that do not involve environmental issues,² formal expressions of intent to file an OFA under 49 CFR 1152.27(c)(2),³ and trail use/rail banking requests under 49 CFR 1152.29 must be filed by January 8, 2004.⁴ Petitions to reopen or requests for public use conditions under 49 CFR 1152.28 must be filed by January 20, 2004, with: Surface Transportation Board, 1925 K Street, NW., Washington, DC 20423-0001.

¹ In its notice, the City indicated a proposed consummation date of January 12, 2004. Under 49 CFR 1152.50(d)(2), however, the earliest the exemption could become effective is 50 days after the verified notice of exemption was filed. The notice was filed on December 9, 2003. Therefore, the effective date of the exemption can be no earlier than January 28, 2004, and consummation may not take place prior to that date. The City's representative has been notified and has confirmed that consummation will not take place before January 28, 2004.

² The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

³ Each OFA must be accompanied by the filing fee, which currently is set at $1,100. See 49 CFR 1002.2(f)(25).

⁴ Madison County Transit (MCT) concurrently filed a request for issuance of a notice of interim trail use for the entire line under the National Trails System Act, 16 U.S.C. 1247(d). Also by letter filed December 12, 2003, the Terminal Railroad Association of St. Louis (Terminal) states that it intends to file a reply to the City's notice of exemption and to MCT's trail use request, and that it will seek a stay of the effective date of the exemption. The Board will address MCT's trail use request, along with any others that may be filed, and any further filings by Terminal in subsequent decisions.

A copy of any petition filed with the Board should be sent to the City's representative: Charles H. Montange, 426 NW 162d St., Seattle, WA 98177.

If the verified notice contains false or misleading information, the exemption is void ab initio.

The City has filed an environmental report which addresses the abandonment's effects, if any, on the environment and historic resources. SEA will issue an environmental assessment (EA) by January 2, 2004. Interested persons may obtain a copy of the EA by writing to SEA (Room 500, Surface Transportation Board, Washington, DC 20423-0001) or by calling SEA, at (202) 565-1539. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), the City shall file a notice of consummation with the Board to signify that it has exercised the authority granted and fully abandoned the line. If consummation has not been effected by the City's filing of a notice of consummation by December 29, 2004, and there are no legal or regulatory barriers to consummation, the authority to abandon will automatically expire.

Board decisions and notices are available on our Web site at www.stb.dot.gov.

Decided: December 18, 2003.
By the Board, David M. Konschnik, Director, Office of Proceedings.
Vernon A. Williams,
Secretary.

[FR Doc. 03-31719 Filed 12-24-03; 8:45 am]

BILLING CODE 4915-00-P